DEPARTMENT OF DEFENSE

GENERAL SERVICES ADMINISTRATION

NATIONAL AERONAUTICS AND SPACE ADMINISTRATION

[OMB Control No. 9000-0159; Docket 2012-0076; Sequence 17]

Federal Acquisition Regulation; Information Collection; Central Contractor Registration

AGENCIES: Department of Defense (DOD), General Services Administration (GSA), and National Aeronautics and Space Administration (NASA).

ACTION: Notice of request for public comments regarding an extension to an existing OMB clearance.

SUMMARY: Under the provisions of the Paperwork Reduction Act, the Regulatory Secretariat will be submitting to the Office of Management and Budget (OMB) a request to review and approve an extension of a previously approved information collection requirement concerning the Central Contractor Registration database. A notice was published in the Federal Register at 77 FR 24713, on April 25, 2012. One respondent submitted comments.

Public comments are particularly invited on: Whether this collection of information is necessary for the proper performance of functions of the Federal Acquisition Regulation (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before April 23, 2013.

ADDRESSES: Submit comments identified by Information Collection 9000-0159, Central Contractor Registration, by any of the following methods:

• Regulations.gov: http://www.regulations.gov. Submit comments via the Federal eRulemaking portal by inputting “Information Collection 9000-0159, Central Contractor Registration” under the heading “Enter Keyword or ID” and selecting “Search”. Select the link “Submit a Comment” that corresponds with “Information Collection 9000-0159, Central Contractor Registration”. Follow the instructions provided at the “Submit a Comment” screen. Please include your name, company name (if any), and “Information Collection 9000-0159, Central Contractor Registration” on your attached document.

• Fax: 202-501-4067.

• Mail: General Services Administration, Regulatory Secretariat (MVCB), 1275 First Street NE., Washington, DC 20417. ATTN: Hada Flowers/IC 9000-0159, Central Contractor Registration.

Instructions: Please submit comments only and cite Information Collection 9000-0159, Central Contractor Registration, in all correspondence related to this collection. All comments received will be posted without change to http://www.regulations.gov, including any personal and/or business confidential information provided.

FOR FURTHER INFORMATION CONTACT: Mr. Curtis E. Glover, Sr., Procurement Analyst, Office of Governmentwide Policy, GSA, (202)501-1448, or via email at curtis.glover@gsa.gov.

SUPPLEMENTARY INFORMATION:

I. Purpose

Federal Acquisition Regulation (FAR) Subpart 4.11 prescribes policies and procedures for requiring contractor registration in the Central Contractor Registration (CCR) database. The CCR is the primary vendor database for the U.S. Federal Government. CCR collects, validates, stores, and disseminates data in support of agency acquisition missions.

Both current and potential Federal Government vendors are required to register in CCR in order to be awarded contracts by the Federal Government. Vendors are required to complete a one-time registration to provide basic information relevant to procurement and financial transactions. Vendors must update or renew their registration at least once per year to maintain an active status.

CCR validates the vendor information and electronically share the secure and encrypted data with Federal agency finance offices to facilitate paperless payments through electronic funds transfer. Additionally, CCR shares the data with Federal Government procurement and electronic business systems.

II. Analysis of Public Comments

One respondent submitted public comments on the extension of the previously approved information collection. The analysis of the public comments is summarized as follows:

Comment: The respondent commented that the extension of the information collection would violate the fundamental purposes of the Paperwork Reduction Act because of the burden it puts on the entity submitting the information and the agency collecting the information.

Response: In accordance with the Paperwork Required Act (PRA), agencies can request an OMB approval of an existing information collection. The PRA requires that agencies use the Federal Register notice and comment process, to extend the OMB's approval, at least every three years. This extension, to a previously approved information collection, pertains to FAR Subpart 4.11—Central Contractor Registration. The purpose of this part is to prescribe the policies and procedures for requiring contractor registration in the Central Contractor Registration (CCR) database, a part of the business partner Network (BPN) to—

(a) Increase visibility of vendor sources (including their geographical locations) for specific supplies and services; and

(b) Establish a common source of vendor data for the Government.

The Government must ensure that contractors are registered in the CCR database prior to award of a contract or agreement, except in certain cases. Clause 52.204-7, Central Contractor Registration, is mandatory except in certain cases. Not granting this extension would consequently eliminate the Government's ability to gather information about its vendor base which is used in the procurement process, and to facilitate electronic payment to vendors.

Comment: The respondent commented that the Agencies did not accurately estimate the public burden an extension of the information collection requirement would create. The respondent indicated that CCR requires extensive information about the registrant, for example executive compensation, and the time required is estimated time per response is 50 to 100 times greater than the estimate of .4526 hours per response.

Response: The Federal Procurement Data System shows 193,397 unique vendors received awards in Fiscal Year (FY) 2011. For FY 2011, it is estimated that 168,646 current Government vendors received new awards, and 24,751 new vendors were awarded contracts. These vendors are required to input information in CCR in order to receive awards. In consideration of the public comment, it is estimated that for current CCR vendors, an average of 1 hour is needed to update the information in the system. For new CCR registrants, it is estimated that 3 hours will be required for each respondent to fill out the documentation in the system. An overall average of 1.2559 hours is required to review and update the documentation for current registrants and to review, prepare, and complete the registration for new registrants. This is an increase from the estimated average of .4526 hours per response. There are other OMB information collection requirements that account for the data collected in CCR. For example, OMB Control Number 9000-0177 accounts for the reporting of executive compensation. A notice was published in the Federal Register at 77 FR 22766, on April 17, 2012.

Comment: The respondent commented that the collective burden of compliance with the information collection requirement greatly exceeds the Agencies estimate and outweighs any potential utility of the extension.

Response: The Paperwork Reduction Act (PRA) was designed to improve the quality and use of Federal information to strengthen decision-making, accountability, and openness in government and society. Central to this process is the solicitation of comments from the public. This process incorporates an enumerated specification of targeted information and provides interested parties a meaningful opportunity for comment on the relevant compliance cost. This process has led to decreases in the overall collective burden of compliance for the information collection requirement in regards to the public. Based on OMB estimates, in FY 2010, the public spent 8.8 billion hours responding to information collections. This was a decrease of one billion hours, or ten percent from the previous fiscal year. In effect, the collective burden of compliance for the public is going down as the Government publishes rules that make the process less complex, more transparent, and reduces the cost of federal regulations to both the Contractor community and Government.

Comment: The respondent commented that the Government's response to the Paperwork Reduction Act waiver for Far Case 2007-006 is instructive on the total burden for respondents.

Response: Serious consideration is given, during the open comment period, to all comments received and adjustments are made to the paperwork burden estimate based on reasonable considerations provided by the public. This is evidenced, as the respondent notes, in FAR Case 2007-006 where an adjustment was made from the total preparation hours from three to 60. This change was made considering particularly the hours that would be required for review within the company, prior to release to the Government.

The burden is prepared taking into consideration the necessary criteria in OMB guidance for estimating the paperwork burden put on the entity submitting the information. For example, consideration is given to an entity reviewing instructions; using technology to collect, process, and disclose information; adjusting existing practices to comply with requirements; searching data sources; completing and reviewing the response; and transmitting or disclosing information. The estimated burden hours for a collection are based on an average between the hours that a simple disclosure by a very small business might require and the much higher numbers that might be required for a very complex disclosure by a major corporation. Also, the estimated burden hours should only include projected hours for those actions which a company would not undertake in the normal course of business. Careful consideration went into assessing the estimated burden hours for this collection, and an upward adjustment is being to the estimated burden hours.

III. Annual Reporting Burden

Respondents: 193,397.

Responses per Respondent: 1.

Annual Responses: 193,397.

Hours per Response: 1.2559.

Total Burden Hours: 242,887.

Obtaining Copies of Proposals: Requesters may obtain a copy of the information collection documents from the General Services Administration, Regulatory Secretariat (MVCB), 1275 First Street NE., Washington, DC 20417, telephone (202) 501-4755. Please cite OMB Control Number 9000-0159, Central Contractor Registration, in all correspondence.

Dated: February 15, 2013.
William Clark,
Acting Director, Federal Acquisition Policy Division, Office of Governmentwide Acquisition Policy, Office of Acquisition Policy, Office of Governmentwide Policy.

[FR Doc. 2013-04110 Filed 2-21-13; 8:45 am]

BILLING CODE 6820-EP-P